NUCLEAR REGULATORY COMMISSION

Sunshine Act Meetings

AGENCY HOLDING THE MEETING: Nuclear Regulatory Commission.

DATE: Weeks of August 7, 14, 21, 28, September 4, and 11, 2000.

PLACE: Commissioners' Conference Room, 11555 Rockville Pike, Rockville, Maryland.

STATUS: Public and Closed.

MATTERS TO BE CONSIDERED:

Week of August 7

There are no meetings scheduled for the Week of August 7.

Week of August 14—Tentative

Tuesday, August 15

9:25 a.m.

Affirmation Session (Public Meeting) (If necessary)

9:30 a.m.

Briefing on NRC International Activities (Public Meeting) (Contact: Ron Hauber, 301-415-2344)

This meeting will be webcast live at the Web address—www.nrc.gov/live.html

Week of August 21—Tentative

Monday, August 21

1:55 p.m.

Affirmation Session (Public Meeting) (If necessary)

Week of August 28—Tentative

There are no meetings scheduled for the Week of August 28.

Week of September 4—Tentative

There are no meetings scheduled for the Week of September 4.

Week of September 11—Tentative

There are no meetings scheduled for the Week of September 11.

The Schedule for Commission meetings is subject to change on short notice. To verify the status of meetings call (Recording)—(301) 415-1292.

CONTACT PERSON FOR MORE INFORMATION: Bill Hill (301) 415-1661.

* * * * *

ADDITIONAL INFORMATION: By a vote of 5-0 on August 1, the Commission determined pursuant to U.S.C 552b(e) and § 9.107(a) of the Commission's rules that “Affirmation of (a) Private Fuel Storage, L.L.C., Docket No. 72-22 Referred Ruling of LBP-00-06 and (b) NORTHERN STATES POWER COMPANY (Monticello Nuclear Generating Plant; Prairie Island Nuclear Generating Plant, Units 1 and 2; and Prairie Island Independent Spent Fuel Storage Installation); Docket Nos. 50-263-LT, 50-282-LT, 50-306-LT, and 70-10-LT; Petitions to Intervene” be held on August 1, and on less than one week's notice to the public.

* * * * *

The NRC Commission Meeting Schedule can be found on the Internet at: http://www.nrc.gov/SECY/smj/schedule.htm

* * * * *

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: August 6, 2000.
William M. Hill, Jr.,
SECY Tracking Officer, Office of the Secretary.

[FR Doc. 00-20406 Filed 8-8-00; 1:23 pm]

BILLING CODE 7590-01-M